Executive Order 14312 of June 30, 2025

Providing for the Revocation of Syria Sanctions

By the authority vested in me as President by the Constitution and the laws of the United States of America, including the International Emergency Economic Powers Act (50 U.S.C. 1701 et seq.), the National Emergencies Act (50 U.S.C. 1601 et seq.) (NEA), the Syria Accountability and Lebanese Sovereignty Restoration Act of 2003 (Public Law 108-175) (Syria Accountability Act), the Chemical and Biological Weapons Control and Warfare Elimination Act of 1991 (Public Law 102-182, title III) (CBW Act), the Caesar Syria Civilian Protection Act of 2019, as amended (22 U.S.C. 8791 note) (Caesar Act), the Illicit Captagon Trafficking Suppression Act of 2023 (Public Law 118-50, div. P), and section 301 of title 3, United States Code, it is hereby ordered:

Section 1. Background. The United States is committed to supporting a Syria that is stable, unified, and at peace with itself and its neighbors. A united Syria that does not offer a safe haven for terrorist organizations and ensures the security of its religious and ethnic minorities will support regional security and prosperity. The Secretary of State and the Secretary of the Treasury have taken initial steps towards this goal through the issuance on May 23, 2025, of General License 25 and a waiver of sanctions under the Caesar Act.

Sec. 2. Policy. It is the policy of the United States to recognize that circumstances that gave rise to the actions taken in the Executive Orders described in section 3(a) of this order, related to the policies and actions of the former regime of Bashar al-Assad, have been transformed by developments over the past 6 months, including the positive actions taken by the new Syrian government under President Ahmed al-Sharaa. This order supports United States national security and foreign policy goals by directing additional actions, including the removal of sanctions on Syria, the issuance of waivers that permit the relaxation of export controls and other restrictions on Syria, and other actions to be taken by the Secretary of State, the Secretary of the Treasury, and the Secretary of Commerce, as well as by other executive departments and agencies (agencies) of the United States, without providing relief to ISIS or other terrorist organizations, human rights abusers, those linked to chemical weapons or proliferation-related activities, or other persons that threaten the peace, security, or stability of the United States, Syria, and its neighbors.

Sec. 3. Revocation of Syria Sanctions. (a) Effective July 1, 2025, I hereby terminate the national emergency declared in Executive Order 13338 of May 11, 2004 (Blocking Property of Certain Persons and Prohibiting the Export of Certain Goods to Syria), and revoke that order, as well as Executive Order 13399 of April 25, 2006 (Blocking Property of Additional Persons in Connection With the National Emergency With Respect to Syria), Executive Order 13460 of February 13, 2008 (Blocking Property of Additional Persons in Connection With the National Emergency With Respect to Syria), Executive Order 13572 of April 29, 2011 (Blocking Property of Certain Persons with Respect to Human Rights Abuses in Syria), Executive Order 13573 of May 18, 2011 (Blocking Property of Senior Officials of the Government of Syria), and Executive Order 13582 of August 17, 2011 (Blocking Property of the Government of Syria and Prohibiting Certain Transactions with Respect to Syria).

(b) Pursuant to section 202(a) of the NEA (50 U.S.C. 1622(a)), termination of the national emergency declared in Executive Order 13338, as modified in scope and relied upon for additional steps taken in Executive Order 13399, Executive Order 13460, Executive Order 13572, Executive Order 13573, and Executive Order 13582 shall not affect any action taken or pending proceeding not finally concluded or determined as of July 1, 2025, any action or proceeding based on any act committed prior to July 1, 2025, or any rights or duties that matured or penalties that were incurred prior to July 1, 2025.

Sec. 4. Accountability for the Former Regime of Bashar al-Assad. I find that additional steps must be taken to ensure meaningful accountability for perpetrators of war crimes, human rights violations and abuses, and the proliferation of narcotics trafficking networks in and in relation to Syria during the former regime of Bashar al-Assad and by those associated with it. Perpetrators of such actions threaten to undermine peace, security, and stability in the region, and thereby constitute an unusual and extraordinary threat to the national security and foreign policy of the United States.

(a) I hereby expand the scope of the national emergency declared in Executive Order 13894 of October 14, 2019 (Blocking Property and Suspending Entry of Certain Persons Contributing to the Situation in Syria), as amended in and relied on for additional steps taken in Executive Order 14142 of January 15, 2025 (Taking Additional Steps With Respect to the Situation in Syria), to deal with that threat, and accordingly further amend Executive Order 13894 by:

(i) striking section 1(a) and inserting, in lieu thereof, the following:

“Section 1. (a) All property and interests in property that are in the United States, that hereafter come within the United States, or that are or hereafter come within the possession or control of any United States person of the following persons are blocked and may not be transferred, paid, exported, withdrawn, or otherwise dealt in:

(i) any person determined by the Secretary of the Treasury, in consultation with the Secretary of State:

(A) to be responsible for or complicit in, or to have directly or indirectly engaged in, or attempted to engage in, any of the following in or in relation to Syria:

(1) actions or policies that further threaten the peace, security, stability, or territorial integrity of Syria; or

(2) the commission of serious human rights abuse;

(B) to be a former government official of the former regime of Bashar al-Assad or a person who acted for or on behalf of such an official;

(C) to have engaged in, or attempted to engage in, activities or transactions that have materially contributed to, or pose a significant risk of materially contributing to, the illicit production and international illicit proliferation of captagon;

(D) to be responsible for or complicit in, to have directly or indirectly engaged in, or to be responsible for ordering, controlling, or otherwise directing, instances in which a United States national ((i) as defined in 8 U.S.C. 1101(a)(22) or 8 U.S.C. 1408, or (ii) a lawful permanent resident with significant ties to the United States) went missing in Syria during the former regime of Bashar al-Assad;

(E) to have materially assisted, sponsored, or provided financial, material, or technological support for, or goods or services to or in support of:

(1) the former regime of Bashar al-Assad;

(2) any activity described in subsections (a)(i)(A)-(a)(i)(D) of this section; or

(3) any person whose property and interests in property are blocked pursuant to this order;

(F) to be owned or controlled by, or to have acted or purported to act for or on behalf of, directly or indirectly, any person whose property and interests in property are blocked pursuant to this order; or

(G) to be an adult family member of a person designated under subsections (a)(i)(A)-(a)(i)(D) of this section.”; and

(ii) striking section 2(a) and inserting, in lieu thereof, the following:

“Sec. 2. (a) The Secretary of State, in consultation with the Secretary of the Treasury and other officials of the United States Government as appropriate, is hereby authorized to impose on a foreign person any of the sanctions described in subsections (b) and (c) of this section, upon determining that the person, on or after the date of this order:

(i) is responsible for or complicit in, has directly or indirectly engaged in, or attempted to engage in, or financed the obstruction, disruption, or prevention of efforts to promote a Syria that is stable, unified, and at peace with itself and its neighbors, including:

(A) the convening and conduct of a credible and inclusive Syrian-led constitutional process;

(B) the preparation for and conduct of supervised elections, pursuant to the new constitution, that are free and fair and to the highest international standards of transparency and accountability; or

(C) the development of a Syrian government that is representative and reflects the will of the Syrian people;

(ii) is an adult family member of a person designated under subsection (a)(i) of this section; or

(iii) is responsible for or complicit in, or has directly or indirectly engaged in, or attempted to engage in, the expropriation of property, including real property, for personal gain or political purposes in Syria.”

(b) I additionally amend Executive Order 13606 of April 22, 2012 (Blocking the Property and Suspending Entry into the United States of Certain Persons With Respect to Grave Human Rights Abuses by the Governments of Iran and Syria Via Information Technology), by removing the following text from the preamble: “Executive Order 13338 of May 11, 2004, as modified in scope and relied upon for additional steps in subsequent Executive Orders” and replacing it with: “Executive Order 13894 of October 14, 2019, and relied upon for additional steps and further amended in subsequent Executive Orders.”

Sec. 5. Caesar Act. The Secretary of State, in consultation with the Secretary of the Treasury, shall examine whether the criteria set forth in section 7431(a) of the Caesar Act have been met, and on the basis of that examination may, pursuant to the Presidential Memorandum of March 31, 2020 (Delegation of Certain Functions and Authorities Under the National Defense Authorization Act for Fiscal Year 2020), suspend in whole or in part the imposition of sanctions otherwise required under the Caesar Act. If the Secretary of State determines to suspend in whole or in part the imposition of such sanctions, the Secretary of State, in consultation with the Secretary of the Treasury, shall provide the briefing to the appropriate congressional committees required by section 7431(b) of the Caesar Act within 30 days of such determination. Further, the Secretary of State, in consultation with the Secretary of the Treasury, shall continue to review the situation in Syria, and if the Secretary of State, in consultation with the Secretary of the Treasury, determines that the criteria set forth in section 7431(a) are no longer met, the Secretary of State shall reimpose sanctions.

Sec. 6. Syria Accountability Act. I hereby determine pursuant to section 5(b) of the Syria Accountability Act that it is in the national security interest of the United States to waive the application of subsection (a)(1), with respect to items on the Commerce Control List (supp. No. 1 to 15 C.F.R. part 774) only, and subsection (a)(2)(A) of the Syria Accountability Act only. The Secretary of State shall submit to the appropriate congressional committees the report required under section 5(b) of that Act.

Sec. 7. CBW Act. (a) Pursuant to section 307(d)(1)(B) of the CBW Act, I hereby determine and certify that there has been a fundamental change in the leadership and policies of the Government of the Syrian Arab Republic. Accordingly, I hereby waive the following sanctions imposed on Syria for the prior use of chemical weapons under the former regime of Bashar al-Assad:

(i) the restriction on foreign assistance under section 307(a)(1) of the CBW Act;

(ii) the restriction on United States Government credit, credit guarantees, or other financial assistance under section 307(a)(4) of the CBW Act;

(iii) the restrictions on the export of national security-sensitive goods and technology under section 307(a)(5) of the CBW Act and on all other goods and technology under section 307(b)(2)(C) of the CBW Act; and

(iv) the restriction on United States banks from making any loan or providing any credit to the Government of Syria under section 307(b)(2)(B) of the CBW Act.

(b) The Secretary of State shall transmit this waiver determination and report as required by sections 307(d)(1)(B) and (d)(2) of the CBW Act to the appropriate congressional committees. This waiver shall be effective 20 days after it has been so transmitted.

Sec. 8. Counterterrorism Designations. (a) The Secretary of State, in consultation with the Secretary of the Treasury and the Attorney General, shall take all appropriate action with respect to the designation of al-Nusrah Front, also known as Hay'at Tahrir al-Sham and other aliases, as a Foreign Terrorist Organization under 8 U.S.C. 1189 and as a Specially Designated Global Terrorist under 50 U.S.C. 1702 and Executive Order 13224, as well as the designation of Abu Muhammad al-Jawlani, commonly known as Ahmed al-Sharaa, as a Specially Designated Global Terrorist.

(b) The Secretary of State shall take all appropriate action to review the designation of Syria as a State Sponsor of Terrorism consistent with section 1754(c) of the National Defense Authorization Act for Fiscal Year 2019 (Public Law 115-232; 50 U.S.C. 4813(c)), section 40 of the Arms Export Control Act (Public Law 90-629, as amended; 22 U.S.C. 2780), and section 620A of the Foreign Assistance Act of 1961 (Public Law 87-195, as amended; 22 U.S.C. 2371).

Sec. 9. United Nations. The Secretary of State shall take appropriate steps to advance United States policy objectives at the United Nations to support a Syria that is stable and at peace and to support Syrian efforts to counter terrorism and comply with its responsibilities and obligations concerning weapons of mass destruction, including chemical and biological weapons. The Secretary of State is further directed to explore avenues at the United Nations to provide sanctions relief in support of these objectives.

Sec. 10. Implementation. The Secretary of State, the Secretary of the Treasury, and the Secretary of Commerce, as appropriate, are hereby authorized to take such actions, including adopting rules and regulations, as may be necessary to implement this order. The Secretary of State, the Secretary of the Treasury, and the Secretary of Commerce may, consistent with applicable law, redelegate any of these functions within their respective agencies. The Secretary of State, in consultation with the Secretary of the Treasury, the Secretary of Commerce, and the Secretary of Transportation, as appropriate, is authorized to exercise the functions and authorities conferred upon the President in section 5 of the Syria Accountability Act and to redelegate these functions and authorities consistent with applicable law. All agencies of the United States shall take all appropriate measures within their authority to implement this order, consistent with applicable law.

Sec. 11. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of State.

THE WHITE HOUSE,

June 30, 2025.

[FR Doc. 2025-12506

Filed 7-2-25; 8:45 am]

Billing code 4710-10-P